DEPARTMENT OF DEFENSE

Department of the Army; Corps of Engineers

Cancellation of the Availability for a Draft Environmental Impact Statement To Consider Issuance of a Department of the Army Permit Pursuant to Section 404 of the Clean Water Act for Fills Associated With Hobet Mining, Inc.'s Proposed Surface Coal Mining Operation in Conjunction With Its Spruce No. 1 Surface Mine, Near Blair in Logan County, WV

AGENCY: Department of the Army, Army Corps of Engineers, DoD.

ACTION: Notice; cancellation.

SUMMARY: This cancellation is necessitated in order to amend the Draft Environmental Impact Statement (DEIS) to include socioeconomic data that was erroneously omitted; reference notice published in the Federal Register, April 10, 2002 (67 FR 17418). A notice of availability for the DEIS will be published at a later date. In addition, the public hearing scheduled for April 24th at 6:30 p.m. at the Park Restaurant, Chief Logan State Park has been postponed. The public will be notified of the forthcoming public hearing date, location and time, as well as the comment period expiration date. Any comments received in the meantime will be made a part of the administrative record and will be considered in the Final Environmental Impact Statement.

FOR FURTHER INFORMATION CONTACT: Teresa (Hughes) Spagna, U.S. Army Corps of Engineers, Huntington District, Attn: Regulatory Branch-OR-FS, 502 8th Street, Huntington, West Virginia 25701, telephone (304) 529-5710 or electronic mail at Teresa.D.Hughes@Lrh01.usace.army.mil.

SUPPLEMENTARY INFORMATION: None.

Luz D. Ortiz,
Army Federal Register Liaison Office.

[FR Doc. 02-9646 Filed 4-18-02; 8:45 am]

BILLING CODE 3710-GM-M